DEPARTMENT OF COMMERCE

International Trade Administration

[C-533-839]

Postponement of Preliminary Countervailing Duty Determination: Carbazole Violet Pigment 23 from India

AGENCY: Import Administration, International Trade Administration, Department of Commerce.

SUMMARY: The Department of Commerce is extending the time limit for the preliminary determination in the countervailing duty investigation of carbazole violet pigment (CVP-23) from India from February 14, 2004 until no later than April 19, 2004. This extension is made pursuant to section 703(c)(1)(A) of the Tariff Act of 1930 (the Act).

EFFECTIVE DATE: January 29, 2004.

FOR FURTHER INFORMATION CONTACT: Dana Mermelstein or Sean Carey, Office of AD/CVD Enforcement 7, Import Administration, International Trade Administration, U.S. Department of Commerce, 14th Street and Constitution Avenue, N.W., Washington D.C. 20230; telephone (202) 482-1391 or (202) 482-1394, respectively.

SUPPLEMENTARY INFORMATION:

Postponement of Preliminary Determination:

On December 11, 2003, the Department initiated the countervailing duty investigation of CVP-23 from India. See Notice of Initiation of Countervailing Duty Investigation: Carbazole Violet Pigment 23 from India, 68 FR 70778 (December 19, 2003). On January 16, 2004, petitioners made a timely request pursuant to 19 CFR 351.205(e) for a postponement of the preliminary determination in accordance with section 703(c)(1) of the Act. Petitioners requested a postponement in order to ensure sufficient time to receive and analyze submitted responses, and to allow time for the Department to determine the extent to which particular subsidies are being used.

For reasons identified by the petitioners, we see no compelling reason not to postpone the preliminary determination. Therefore, we are postponing and extending the time limit for the preliminary determination in the countervailing duty investigation of CVP-23 from India until no later than April 19, 2004. This extension is made pursuant to section 703(c)(1)(A) of the Act.

This notice of postponement is published pursuant to section 703(c)(2) of the Act.

Dated: January 22, 2004.
James J. Jochum,
Assistant Secretary for Import Administration.

[FR Doc. 04-1935 Filed 1-28-04; 8:45 am]

BILLING CODE 3510-DS-S